NUCLEAR REGULATORY COMMISSION

[NRC-2012-0002]

Sunshine Act Meeting

AGENCY HOLDING THE MEETINGS: Nuclear Regulatory Commission.

DATE: Week of May 7, 2012.

PLACE: Commissioners' Conference Room, 11555 Rockville Pike, Rockville, Maryland.

STATUS: Public and Closed.

ADDITIONAL ITEMS TO BE CONSIDERED:

Week of May 7, 2012

Friday, May 11, 2012

8:55 a.m. Affirmation Session (Public Meeting) (Tentative).

a. Final Rule: Requirements for Maintenance of Inspections, Tests, Analyses, and Acceptance Criteria (RIN 3150-AI77) (Tentative).

b. Strata Energy Inc. (Ross In Situ Recovery Uranium Project), Appeal by NRC Staff and Strata Energy of LBP-12-3 (Feb. 10, 2012) (Tentative).

This meeting will be webcast live at the Web address— www.nrc.gov.

12:00 p.m. Discussion of Management and Personnel Issues (Closed—Ex. 2 and 6).

* * * * *

* The schedule for Commission meetings is subject to change on short notice. To verify the status of meetings, call (recording)—(301) 415-1292. Contact person for more information: Rochelle Bavol, (301) 415-1651.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: May 4, 2012.
Kenneth Hart,
Technical Coordinator, Office of the Secretary.

[FR Doc. 2012-11270 Filed 5-7-12; 4:15 pm]

BILLING CODE 7590-01-P